DEPARTMENT OF DEFENSE

Defense Acquisition Regulations System

48 CFR Part 252

RIN 0750-AI25

Defense Federal Acquisition Regulation Supplement: Electronic Submission of Technical Reports (DFARS Case 2014-D001)

AGENCY: Defense Acquisition Regulations System, Department of Defense (DoD).

ACTION: Final rule.

SUMMARY: DoD is issuing a final rule amending the Defense Federal Acquisition Regulation Supplement (DFARS) to require that scientific and technical reports be submitted in electronic format.

DATES: Effective January 29, 2015.

FOR FURTHER INFORMATION CONTACT: Veronica Fallon, telephone 571-372-6098.

SUPPLEMENTARY INFORMATION:

I. Background

DoD published a proposed rule in the Federal Register at 79 FR 51293 on August 28, 2014, to require submission of scientific and technical reports online in electronic media to the Defense Technical Information Center.

II. Discussion and Analysis

There were no public comments submitted in response to the proposed rule. No changes were made to the proposed rule.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

A final regulatory flexibility analysis has been prepared consistent with the Regulatory Flexibility Act, 5 U.S.C. 601, et seq., and is summarized as follows:

This rule amends the Defense Federal Acquisition Regulation Supplement (DFARS) to require electronic submission of scientific and technical reports (vice paper). Electronic submission of the report is required by DoD Instruction 3200.12, DoD Scientific and Technical Information Program. The rule revises DFARS clause 252.235-7011, Final Scientific or Technical Report, by requiring the contractor to submit an electronic copy of the approved final scientific or technical report. This change will lend efficiency to the submission process by no longer requiring the electronically initiated report to be printed for submission. It will also allow the report to be submitted in the same format as it was created, thereby streamlining and modernizing the report submission process.

No public comments were submitted in response to the initial regulatory flexibility analysis.

According to the Federal Procurement Data System, in fiscal year 2013 DoD made approximately 469,593 contract awards to small businesses, of which approximately 4,143 (less than one percent), were awarded as research, development, test and evaluation contracts. DoD does not expect this rule to have a significant economic impact on a substantial number of small entities because it is not revising any report submission requirements, it is only modernizing the submission process.

This rule does not impose any new reporting requirements. This rule does not impose any new requirements on small entities, and since the rule only changes the mode of submission of the reports from paper to electronic means, this change is expected to have only a negligible impact on small entities.

V. Paperwork Reduction Act

The Paperwork Reduction Act (44 U.S.C chapter 35) does apply; however, these changes to the DFARS do not impose additional information collection requirements to the paperwork burden previously approved under OMB Control Number 0704-0188, entitled ASSIST Database, which expires on August 31, 2016.

List of Subjects in 48 CFR Part 252

Government procurement.

Manuel Quinones,
Editor, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR chapter 1.

2. Section 252.235-7011 is revised to read as follows:

252.235-7011 Final scientific or technical report.

As prescribed in 235.072(d), use the following clause: FINAL SCIENTIFIC OR TECHNICAL REPORT (JAN 2015)

The Contractor shall—

(a) Submit an electronic copy of the approved final scientific or technical report, not a summary, delivered under this contract to the Defense Technical Information Center (DTIC) through the web-based input system at http://www.dtic.mil/dtic/submit/ as required by DoD Instruction 3200.12, DoD Scientific and Technical Information Program (STIP). Include a completed Standard Form (SF) 298, Report Documentation Page, in the document, or complete the web-based SF 298.

(b) For instructions on submitting multi-media reports, follow the instructions at http://www.dtic.mil/dtic/submit.

(c) Email classified reports (up to Secret) to TR@DTIC.SMIL.MIL. If a SIPRNET email capability is not available, follow the classified submission instructions at http://www.dtic.mil/dtic/submit/.

(End of clause)

[FR Doc. 2015-01432 Filed 1-28-15; 8:45 am]

BILLING CODE 5001-06-P